DEPARTMENT OF COMMERCE

National Oceanic and Atmospheric Administration

RIN; 0648-XE73

Pacific Fishery Management Council; Public Meeting; Correction

AGENCY: National Marine Fisheries Service (NMFS), National Oceanic and Atmospheric Administration (NOAA), Commerce.

ACTION: Notice of rescheduling of a public meeting.

SUMMARY: The Pacific Fishery Management Council's (Council) Trawl Rationalization Tracking and Monitoring Committee (TRTMC) is cancelling and rescheduling a previously announced working meeting. The meeting is open to the public.

DATES: The TRTMC meeting to be held Wednesday, January 23, 2008 was cancelled and is rescheduled as a telephone conference on Wednesday, February 13, 2008, from 10 a.m. until business for the day is completed.

ADDRESSES: A listening station for the public will be available at the Pacific Fishery Management Council, Large Conference Room, 7700 NE Ambassador Place, Suite 101, Portland, OR 97220-1384; telephone: (503) 820-2280.

FOR FURTHER INFORMATION CONTACT: Mr. Jim Seger, Staff Officer; telephone: (503) 820-2280.

SUPPLEMENTARY INFORMATION: The original notice published in the Federal Register on January 2, 2008 (73 FR 170).

The Council is considering a rationalization program to cover limited entry trawl landings in the West Coast groundfish fishery. The purpose of the TRTMC working meeting is to provide agency guidance and perspectives on design constraints and to scope likely impacts of alternative configurations of tracking and monitoring systems for trawl rationalization.

Although non-emergency issues not contained in the meeting agenda may come before the TRTMC for discussion, those issues may not be the subject of formal TRTMC action during this meeting. TRTMC action will be restricted to those issues specifically listed in this notice and any issues arising after publication of this notice that require emergency action under Section 305(c) of the Magnuson-Stevens Fishery Conservation and Management Act, provided the public has been notified of the TRTMC's intent to take final action to address the emergency.

Special Accommodations

This meeting is physically accessible to people with disabilities. Requests for sign language interpretation or other auxiliary aids should be directed to Ms. Carolyn Porter at (503) 820-2280 at least 5 days prior to the meeting date.

Dated: January 25, 2008.
Tracey L. Thompson,
Acting Director, Office of Sustainable Fisheries, National Marine Fisheries Service.

[FR Doc. E8-1600 Filed 1-29-08; 8:45 am]

BILLING CODE 3510-22-S